DEPARTMENT OF HEALTH AND HUMAN SERVICES

National Institutes of Health

Center for Scientific Review; Proposed Collection; Comment Request; Customer Satisfaction Surveys

SUMMARY: In compliance with the requirement of Section 3506(c)(2)(A) of the Paperwork Reduction Act of 1995 for the opportunity for public comment on the proposed data collection projects, the Center for Scientific Review (CSR), the National Institutes of Health (NIH), will publish periodic summaries of proposed projects to be submitted to the Office of Management and Budget (OMB) for review and approval.

Proposed Collection

Title: Customer Satisfaction Surveys.

Type of Information Collection Request: Reinstatement.

Need and Use of Information Collection: The information collected in these surveys will be used by the Center for Scientific Review management and personnel: (1) To assess the quality of the modified operations and processes now used by CSR to review grant applications; (2) To assess the quality of service provided by CSR to our customers; (3) To examine and assess the effectiveness of the reorganization and reconfiguration of the peer review study committees based on customer input; (4) To develop new modes of operation based on customer need and customer feedback about the efficacy of implemented modifications. These surveys will almost certainly lead to quality improvement activities that will enhance and/or streamline CSR's operations. The major mechanism by which CSR will request input is through surveys. The survey for customers, i.e., past and present grant applicants, is generic, but will have slight variations tailored to the scientific subject category of each major Integrated Review Group (IRG). The next major reorganized IRGs to be evaluated consist of the Behavioral and Social Sciences peer review study sections. Surveys will be collected via Internet. Information gathered from these surveys will be presented to, and used directly by, CSR management to enhance the operations, processes, organization of, and services provided by the Center. Frequency of Response: The participants will respond once, unless there is a compelling reason for a subsequent survey.

Affected public: Universities, not-for-profit institutions, business or other for-profit, small businesses and organizations, and individuals.

Type of Respondents: Adult scientific professionals.

The annual reporting burden is as follows: It is estimated that the survey form will take 20 minutes to complete. The annual hour burden is, therefore, estimated to be 600 hours for approximately 1,800 respondents in FY 2004, 600 hours for approximately 1,800 respondents in FY 2005, 600 hours for approximately 1,800 respondents in FY 2006. Estimated costs to the respondents consist entirely of their time. Costs for time were estimated using a rate of $40.00 per hour for principal investigators/grant applicants. The estimated annual cost burden for respondents for each year for which the generic clearance is requested is $24,000 for FY 2004, $24,000 for FY 2005 $24,000 for FY 2006. No additional costs should be incurred by respondents. There will be dissemination and analysis costs for the survey originators.

Requests for Comments: Written comments and/or suggestions from the public and affected agencies are invited on one or more of the following points: (1) Whether the proposed collection of information is necessary for the proper performance of the functions of the CSR, including whether the information will have practical utility; (2) The accuracy of the agency's estimate of the burden of the proposed collection of information, including the validity of the methodology and assumptions used; (3) Ways to enhance the quality, utility, and clarity of the information to be collected; and (4) Ways to minimize the burden of the collection of information on those who are to respond while maintaining their anonymity, including the use of automated, electronic, mechanical, or other technological collection techniques of other forms of information technology.

FOR FURTHER INFORMATION CONTACT: To request more information on the proposed project or to obtain a copy of the data collection plans, contact: Karl F. Malik, PhD., Assistant to the Deputy Director, Office of the Director, Center for Scientific Review, National Institutes of Health, Rockledge II, Rm 3016, 6701 Rockledge Drive, Bethesda, MD 20814-9692, or call non-toll free: 301-435-1114, or e-mail your request or comments, including your address to: malikk@csr.nih.gov.

Comments Due Date: Comments regarding this information collection are best assured of having their full effect if relieved within 60 days of the date of this publication.

Dated: October 24, 2003.
Brent Stanfield,
Acting Director, Center for Scientific Review, National Institutes of Health.

[FR Doc. 03-27585 Filed 10-31-03; 8:45 am]

BILLING CODE 4140-01-M